DEPARTMENT OF ENERGY

Federal Energy Regulatory Commission

[Docket No. CP05-92-000]

Liberty Gas Storage, L.L.C.; Notice of Availability of the Environmental Assessment for the Proposed Liberty Gas Storage Project

August 26, 2005.

The staff of the Federal Energy Regulatory Commission (FERC or Commission) has prepared an environmental assessment (EA) on the natural gas pipeline facilities proposed by Liberty Gas Storage, L.L.C. (Liberty Gas Storage) in the above-referenced docket.

The EA was prepared to satisfy the requirements of the National Environmental Policy Act. The staff concludes that approval of the proposed project, with appropriate mitigating measures, would not constitute a major Federal action significantly affecting the quality of the human environment.

The EA assesses the potential environmental effects of the construction and operation of the proposed Liberty Gas Storage Project including:

• Two existing brine solution mining caverns owned by PPG Industries, Inc. (PPG) (PPG Cavern 15 and PPG Cavern 17) that would be converted to natural gas storage caverns capable of storing 23.4 billion cubic feet (Bcf) of natural gas; and

• A 1.3-mile-long 20-inch-diameter pipeline with a maximum allowable operating pressure (MAOP) of 3,280 pounds per square inch (psig) that would connect the natural gas storage cavern wells to the new On-site Compressor Station.

• A new compressor station (On-site Compressor Station) in Calcasieu Parish, Louisiana;

• A new compressor station (Remote Compressor Station) in Beauregard Parish, Louisiana;

• A new 23.3-mile-long, 30-inch-diameter pipeline from the On-site Compressor Station to connect to multiple interstate pipeline systems including Florida Gas Transmission (FGT), Tennessee Gas Pipeline (TGP), Texas Eastern Transmission Company (TETCO), Transcontinental Gas Pipe Line Corporation (Transco) and Trunkline Gas Company (Trunkline) in Calcasieu and Beauregard Parishes with a MAOP of 1,480 psig;

• A new meter/regulator station for deliveries to FGT at MP 2.1 on the 30-inch Pipeline in Calcasieu Parish, Louisiana;

• A new meter/regulator station for deliveries to TGP at MP 7.0 on the 30-inch Pipeline in Calcasieu Parish, Louisiana;

• A new meter/regulator station for deliveries to TETCO and Transco, located on the site of the Remote Compressor Station at MP 19.7 in Beauregard Parish, Louisiana; and

• A new meter/regulator station for deliveries to Trunkline, located adjacent to the existing Trunkline site at MP 23.3 in Beauregard Parish, Louisiana.

The purpose of the Liberty Gas Storage Project is to provide firm and interruptible storage of natural gas in the gulf coast region, including to the potential liquefied natural gas (LNG) market. The Liberty Gas Storage Project would provide related interruptible hub services on an open access basis for volumes transported on the interstate natural gas system in and from the gulf coast and south Texas areas. The Liberty Gas Storage Project would help meet the growing need for high-deliverability natural gas storage in the southeastern United States and in markets served directly and indirectly by the numerous natural gas pipelines that traverse the project area. Consequently, Liberty Gas Storage's facilities and services would serve the needs of local gas distribution, power generation, pipeline shippers, and gas marketers, as well as existing and proposed LNG terminals that may be placed into service in the region.

The EA has been placed in the public files of the FERC. A limited number of copies of the EA are available for distribution and public inspection at: Federal Energy Regulatory Commission, Public Reference Room, 888 First Street, NE., Room 2A, Washington, DC 20426, (202) 502-8371.

Copies of the EA have been mailed to Federal, State and local agencies, public interest groups, interested individuals, newspapers, and parties to this proceeding.

Any person wishing to comment on the EA may do so. To ensure consideration prior to a Commission decision on the proposal, it is important that we receive your comments before the date specified below. Please carefully follow these instructions to ensure that your comments are received in time and properly recorded:

• Send an original and two copies of your comments to: Secretary, Federal Energy Regulatory Commission, 888 First St., NE., Room 1A, Washington, DC 20426;

• Label one copy of the comments for the attention of the Gas 2, DG2E.

• Reference Docket No. CP05-92-000; and

• Mail your comments so that they will be received in Washington, DC on or before September 26, 2005.

Please note that we are continuing to experience delays in mail deliveries from the U.S. Postal Service. As a result, we will include all comments that we receive within a reasonable time frame in our environmental analysis of this project. However, the Commission strongly encourages electronic filing of any comments or interventions or protests to this proceeding. See 18 CFR 385.2001(a)(1)(iii) and the instructions on the Commission's Web site at http://www.ferc.gov under the “e-Filing” link and the link to the User's Guide. Before you can file comments you will need to create a free account which can be created by clicking on “Sign-up.”

Comments will be considered by the Commission but will not serve to make the commentor a party to the proceeding. Any person seeking to become a party to the proceeding must file a motion to intervene pursuant to Rule 214 of the Commission's Rules of Practice and Procedures (18 CFR 385.214).¹ Only intervenors have the right to seek rehearing of the Commission's decision.

¹ Interventions may also be filed electronically via the Internet in lieu of paper. See the previous discussion on filing comments electronically.

Affected landowners and parties with environmental concerns may be granted intervenor status upon showing good cause by stating that they have a clear and direct interest in this proceeding which would not be adequately represented by any other parties. You do not need intervenor status to have your comments considered.

Additional information about the project is available from the Commission's Office of External Affairs, at 1-866-208-FERC or on the FERC Internet Web site (http://www.ferc.gov) using the eLibrary link. Click on the eLibrary link, click on “General Search” and enter the docket number excluding the last three digits in the Docket Number field. Be sure you have selected an appropriate date range. For assistance, please contact FERC Online Support at FercOnlineSupport@ferc.gov or toll free at 1-866-208-3676, or for TTY, contact (202) 502-8659. The eLibrary link also provides access to the texts of formal documents issued by the Commission, such as orders, notices, and rulemakings.

In addition, the Commission now offers a free service called eSubscription which allows you to keep track of all formal issuances and submittals in specific dockets. This can reduce the amount of time you spend researching proceedings by automatically providing you with notification of these filings, document summaries and direct links to the documents. Go to http://www.ferc.gov/esubscribenow.htm.

Magalie R. Salas,
Secretary.

[FR Doc. E5-4812 Filed 9-1-05; 8:45 am]

BILLING CODE 6717-01-P